DEPARTMENT OF DEFENSE

GENERAL SERVICES ADMINISTRATION

NATIONAL AERONAUTICS AND SPACE ADMINISTRATION

48 CFR Chapter 1

Federal Acquisition Circular 97-15; Introduction

Correction

In rule document 99-33429 beginning on page 72414 in the issue of Monday, December 27, 1999, make the following correction:

On page 72414, in the table, in the first column labeled “Item”, the second Roman numeral “I” should read “II”, in sequence.

[FR Doc. C9-33429 Filed 1-28-00; 8:45 am]Alison M. Gavin

DEPARTMENT OF DEFENSE

GENERAL SERVICES ADMINISTRATION

NATIONAL AERONAUTICS AND SPACE ADMINISTRATION

48 CFR Parts 12, 19, and 52

[FAC 97-15; FAR Case 98-011; Item VII]

RIN 9000-AI33

Federal Acquisition Regulation; SBA's 8(a) Business Development Program

Correction

In rule document 99-33436 appearing on page 72447 in the issue of Monday, December 27, 1999, make the following corrections:

On page 72447, in the first column, under the heading DATES:, under “Applicability Date:”, “December 21, 1999” should read “December 27, 1999”.

[FR Doc. C9-33436 Filed 1-28-00; 8:45 am]

BILLING CODE 1505-01-D!Bonnie!

DEPARTMENT OF DEFENSE

GENERAL SERVICES ADMINISTRATION

NATIONAL AERONAUTICS AND SPACE ADMINISTRATION

48 CFR Parts 25 and 52

[FAC 97-15; FAR Case 97-024; Item II]

RIN 9000-AH30

Foreign Acquisition Regulation; Foreign Acquisition (Part 25 Rewrite)

Correction

In rule document 99-33431 beginning on page 72416, in the issue of Monday, December 27, 1999, make the following corrections:

25.100[Corrected]

1.

On page 72422, in the first column, in section 25.100, in the fifth line, in the introductory text, after “United States”, add “including supplies acquired under contracts set aside for small business concerns, if—(a)The supply contract exceeds the micro-purchase threshold; or”.

25.504-4[Corrected]

2.

On page 72428, in section 25.504-4(a), in the table at the bottom of the page, in the last line entry, “NEL=10,600” should read “*NEL=10,600”

52.225-2[Corrected]

3.

On page 72434, in section 52.225-2(a), in the second column, in the ninth line, “and” should read “end”.

52.225-4[Corrected]

4.

On page 72435, in section 52.225-4, in the third column, in the eighth line, “List as necessary)” should read “(List as necessary)”.

52.225-9[Corrected]

5.

On page 72437, in section 52.225-9(b)(2), in the third column, in the fourth line, “[Contracting Officer to list applicable excepted materials or indicate “none”]” should read “[Contracting Officer to list applicable excepted materials or indicate “none”]”.

52.225-11[Corrected]

6.

On page 72439, in section 52.225-11(b)(3), in the second column, in the fifth line, “[Contracting Officer to list applicable excepted materials or indicate “none”]” should read “[Contracting Officer to list applicable excepted materials or indicate “none”]”.

[FR Doc. C9-33431 Filed 1-28-00; 8:45 am]

BILLING CODE 1505-01-D!!!choate!!!

DEPARTMENT OF EDUCATION

Web-based Education Commission; Hearing and Meeting

Correction

In notice document 00-1455, beginning on page 3431, in the issue of Friday, January 21, 2000, in the third column, in the FOR FURTHER INFORMATION CONTACT: section in the last line “davidXXByer@ed.gov” should read “davidXByer@ed.gov”.

[FR Doc. C0-1455 Filed 1-28-00; 8:45 am]

BILLING CODE 1505-01-D Mike Hoover

SECURITIES AND EXCHANGE COMMISSION

[Release No. 34-42317; File No. SR-Phlx-99-48]

Self-Regulatory Organizations; Notice of Filing and Order Granting Accelerated Approval of Proposed Rule Change by the Philadelphia Stock Exchange, Inc. Amending the Exchange's Certificate of Incorporation

Correction

In notice document 00-780 beginning on page 2215 in the issue of Thursday, January 13, 2000, in the third column, at the end of the first paragraph under III. Solication of Comments, “[insert 21 days from date of publication].” should read “February 3, 2000.”.

[FR Doc. C0-780 Filed 1-28-00; 8:45 am]

BILLING CODE 1505-01-D